DEPARTMENT OF LABOR

Employment and Training Administration

Notice of Determinations Regarding Eligibility To Apply for Trade Adjustment Assistance

In accordance with the Section 223 (19 U.S.C. 2273) of the Trade Act of 1974 (19 U.S.C. 2271, et seq.) (“Act”), as amended, the Department of Labor herein presents summaries of determinations regarding eligibility to apply for trade adjustment assistance under Chapter 2 of the Act (“TAA”) for workers by (TA-W) number issued during the period of January 1, 2019 through February 28, 2019. (This Notice primarily follows the language of the Trade Act. In some places however, changes such as the inclusion of subheadings, a reorganization of language, or “and,” “or,” or other words are added for clarification.)

Section 222(a)—Workers of a Primary Firm

In order for an affirmative determination to be made for workers of a primary firm and a certification issued regarding eligibility to apply for TAA, the group eligibility requirements under Section 222(a) of the Act (19 U.S.C. 2272(a)) must be met, as follows:

(1) The first criterion (set forth in Section 222(a)(1) of the Act, 19 U.S.C. 2272(a)(1)) is that a significant number or proportion of the workers in such workers' firm (or “such firm”) have become totally or partially separated, or are threatened to become totally or partially separated;

AND (2(A) or 2(B) below)

(2) The second criterion (set forth in Section 222(a)(2) of the Act, 19 U.S.C. 2272(a)(2)) may be satisfied by either (A) the Increased Imports Path, or (B) the Shift in Production or Services to a Foreign Country Path/Acquisition of Articles or Services from a Foreign Country Path, as follows:

(A) Increased Imports Path

(i) the sales or production, or both, of such firm, have decreased absolutely;

AND (ii and iii below)

(ii) (I) imports of articles or services like or directly competitive with articles produced or services supplied by such firm have increased; OR

(II)(aa) imports of articles like or directly competitive with articles into which one or more component parts produced by such firm are directly incorporated, have increased; OR

(II)(bb) imports of articles like or directly competitive with articles which are produced directly using the services supplied by such firm, have increased; OR

(III) imports of articles directly incorporating one or more component parts produced outside the United States that are like or directly competitive with imports of articles incorporating one or more component parts produced by such firm have increased;

AND

(iii) the increase in imports described in clause (ii) contributed importantly to such workers' separation or threat of separation and to the decline in the sales or production of such firm; OR

(B) Shift in Production or Services to a Foreign Country Path OR Acquisition of Articles or Services from a Foreign Country Path

(i) (I) there has been a shift by such workers' firm to a foreign country in the production of articles or the supply of services like or directly competitive with articles which are produced or services which are supplied by such firm; OR

(II) such workers' firm has acquired from a foreign country articles or services that are like or directly competitive with articles which are produced or services which are supplied by such firm;

AND

(ii) the shift described in clause (i)(I) or the acquisition of articles or services described in clause (i)(II) contributed importantly to such workers' separation or threat of separation.

Section 222(b)—Adversely Affected Secondary Workers

In order for an affirmative determination to be made for adversely affected secondary workers of a firm and a certification issued regarding eligibility to apply for TAA, the group eligibility requirements of Section 222(b) of the Act (19 U.S.C. 2272(b)) must be met, as follows:

(1) A significant number or proportion of the workers in the workers' firm or an appropriate subdivision of the firm have become totally or partially separated, or are threatened to become totally or partially separated;

AND

(2) the workers' firm is a supplier or downstream producer to a firm that employed a group of workers who received a certification of eligibility under Section 222(a) of the Act (19 U.S.C. 2272(a)), and such supply or production is related to the article or service that was the basis for such certification (as defined in subsection 222(c)(3) and (4) of the Act (19 U.S.C. 2272(c)(3) and (4));

AND

(3) either—

(A) the workers' firm is a supplier and the component parts it supplied to the firm described in paragraph (2) accounted for at least 20 percent of the production or sales of the workers' firm; OR

(B) a loss of business by the workers' firm with the firm described in paragraph (2) contributed importantly to the workers' separation or threat of separation determined under paragraph (1).

Section 222(e)—Firms Identified by the International Trade Commission

In order for an affirmative determination to be made for adversely affected workers in firms identified by the International Trade Commission and a certification issued regarding eligibility to apply for TAA, the group eligibility requirements of Section 222(e) of the Act (19 U.S.C. 2272(e)) must be met, by following criteria (1), (2), and (3) as follows:

(1) The workers' firm is publicly identified by name by the International Trade Commission as a member of a domestic industry in an investigation resulting in—

(A) an affirmative determination of serious injury or threat thereof under section 202(b)(1) of the Act (19 U.S.C. 2252(b)(1)); OR

(B) an affirmative determination of market disruption or threat thereof under section 421(b)(1)of the Act (19 U.S.C. 2436(b)(1)); OR

(C) an affirmative final determination of material injury or threat thereof under section 705(b)(1)(A) or 735(b)(1)(A) of the Tariff Act of 1930 (19 U.S.C. 1671d(b)(1)(A) and 1673d(b)(1)(A));

AND

(2) the petition is filed during the 1-year period beginning on the date on which—

(A) a summary of the report submitted to the President by the International Trade Commission under section 202(f)(1) of the Trade Act (19 U.S.C. 2252(f)(1)) with respect to the affirmative determination described in paragraph (1)(A) is published in the Federal Register under section 202(f)(3) (19 U.S.C. 2252(f)(3)); OR

(B) notice of an affirmative determination described in subparagraph (B) or (C)of paragraph (1) is published in the Federal Register;

AND

(3) the workers have become totally or partially separated from the workers' firm within—

(A) the 1-year period described in paragraph (2); OR

(B) notwithstanding section 223(b) of the Act (19 U.S.C. 2273(b)), the 1-year period preceding the 1-year period described in paragraph (2).

Affirmative Determinations for Trade Adjustment Assistance

The following certifications have been issued. The date following the company name and location of each determination references the impact date for all workers of such determination.

The following certifications have been issued. The requirements of Section 222(a)(2)(A) (Increased Imports Path) of the Trade Act have been met.

TA-W No. | Subject firm | Location | Impact date
93,466 | Wellman Advanced Materials, LLC, CMS Labor Services | Johnsonville, SC | January 26, 2017.
93,497 | WKW Extrusion-Bowers Manufacturing Company, WKW Erbsloeh North America Holding, Inc., Employment Group, Manpower | Portage, MI | January 26, 2017.
93,672 | OSI Electronics, Inc., OSI Systems, Inc., Express Employment Professionals | Hawthorne, CA | March 22, 2017.
94,070 | Learjet, Inc., Bombardier, Inc., Aerotek, DACA Interational, Hi-Tek Professional, etc | Wichita, KS | October 22, 2018.
94,070A | Leased Workers from PDS Tech, Inc. and MSB Global Resources, Learjet, Inc., Bombardier, Inc | Wichita, KS | August 21, 2017.
94,221 | Peak Sports USA Inc | Los Angeles, CA | October 9, 2017.
94,256 | TRW Automotive US, LLC, Active & Passive Safety Division, ZF Group, AtWork Personnel Services, etc | Atkins, VA | October 19, 2017.
94,318 | Invento Americas Inc., Invento Sp. z o.o., SEEK Careers/Staffing Inc | Sheboygan, WI | November 7, 2017.
94,335 | Synoptos Inc. | Reston, VA | November 13, 2017.
94,363 | Pretium Packaging, Gen Star Private Equity, Staffmark Staffing, People Link Staffing | Walterboro, SC | November 27, 2017.
94,372 | Alphi Manufacturing, Vari-Form Group LLC, Elwood Staffing Service, Manpower | Jonesville, MI | November 30, 2017.
94,382 | ADC Die Casting, LLC, Aerotek Commercial Staffing | Elk Grove Village, IL | December 5, 2017.
94,386 | Progress Rail Service | Gering, NE | December 4, 2017.
94,422 | Textron Outdoor Power Equipment, Textron Specialized Vehicles, Manpower | Coatesville, IN | December 20, 2017.
94,422A | Textron Outdoor Power Equipment, Textron Specialized Vehicles, Manpower | Fillmore, IN | December 20, 2017.
94,437 | NUCAP US, Inc., NUCAP Industries, Monroe Staffing, Jaci Carroll Staffing, etc | Wolcott, CT | January 3, 2018.
94,511 | FDP Virginia Inc., 1290 Mt. Landing Road | Tappahannock, VA | February 5, 2018.
94,511A | FDP Virginia Inc., 1076 Airport Road | Tappahannock, VA | February 5, 2018.

The following certifications have been issued. The requirements of Section 222(a)(2)(B) (Shift in Production or Services to a Foreign Country Path or Acquisition of Articles or Services from a Foreign Country Path) of the Trade Act have been met.

TA-W No. | Subject firm | Location | Impact date
93,752 | North Haven, Medtronic, Covidien, Kelly Services | North Haven, CT | April 23, 2017.
93,817 | Star Forge LLC, Jorgensen Forge, CE Start Holdings, Beacon Hill Finance, Madden Machinists | Seattle, WA | May 10, 2017.
93,825 | Alorica | Omaha, NE | May 18, 2017.
94,044 | Amphenol Corporation, Information, Communications, and Commercial Productions, Spectra-Strip | Hamden, CT | August 6, 2017.
94,169 | Pioneer Magnetics, Inc., Aerotek, Exact Staff | Santa Monica, CA | September 24, 2017.
94,193 | Boston Scientific Corporation, Product Surveillance Department (Quality Function), Talent Choice | Minnetonka, MN | October 2, 2017.
94,195 | CCX Corporation | Lafayette, CO | October 2, 2017.
94,202 | DLR Group a/k/a Epsilon/Catapult Marketing, Alliance Data | Minneapolis, MN | October 3, 2017.
94,236 | Virginian Pilot-Media Companies, LLC, IT Division, Tribune Publishing Company, Slait Consulting | Norfolk, VA | October 15, 2017.
94,248 | Loud Audio, LLC, Express Employment Professionals | Woodinville, WA | October 16, 2017.
94,257 | AIG Technologies, Inc., AIG Global Testing Services—U.S., American International Group, etc | Livingston, NJ | October 22, 2017.
94,257A | AIG Technologies, Inc., AIG Global Testing Services—U.S., American International Group, etc | New York, NY | October 22, 2017.
94,257B | AIG Technologies, Inc., AIG Global Testing Services—U.S., American International Group, etc | Houston, TX | October 22, 2017.
94,257C | AIG Technologies, Inc., AIG Global Testing Services—U.S., American International Group, etc | Charlotte, NC | October 22, 2017.
94,257D | AIG Technologies, Inc., AIG Global Testing Services—U.S., American International Group, etc | Berkley Heights, NJ | October 22, 2017.
94,277 | Phoenix Trim Works | Williamsport, PA | October 24, 2017.
94,296 | Westcon Group North America, SYNNEX Corporation, Kforce Corp HQ, Workspend | Chantilly, VA | October 31, 2017.
94,305 | H Granados Communications, Inc., Dispatch Unit, ADP LLC (ADP Total Source) | Laguna Hills, CA | November 5, 2017.
94,316 | Columbia Forest Products | Boardman, OR | December 28, 2018.
94,323 | Virgin Atlantic Airways, LTD., Staff Travel Unit, Human Resources/People Department | Norwalk, CT | November 7, 2017.
94,325 | BJC Health System d/b/a BJC HealthCare, IT Security | St. Louis, MO | November 8, 2017.
94,339 | TIDI Products, LLC | Arcadia, CA | November 14, 2017.
94,361 | Retech Systems LLC, Seco Warwick, The Works, Mendo Lake Staffing and Management Connections | Ukiah, CA | November 26, 2017.
94,362 | ECi Macola/Max, LLC, Product Development, Manufacturing Division, ECi Software Solutions, etc | Dublin, OH | November 27, 2017.
94,364 | Ditech Financial LLC, Loan Servicing Group, Walter Investment Management Corp., etc | St. Paul, MN | November 27, 2017.
94,377 | Baker Manufacturing Co., Inc., Spherion Staffing | Pineville, LA | December 3, 2017.
94,379 | Tech Mahindra Network Services International, Inc., LCC International, Inc., Tech Mahindra Americas | Overland Park, KS | May 21, 2018.
94,385 | Openlink Financial LLC | Uniondale, NY | December 4, 2017.
94,385A | Openlink Financial LLC | New York, NY | December 4, 2017.
94,388 | Halliburton Energy Services, Inc., Finance and Accounting—Duncan Business Service Center, Genuent, etc | Duncan, OK | December 6, 2017.
94,390 | Teradata Corporation | Dayton, OH | December 7, 2017.
94,395 | nThrive Solutions, Inc., nThrive, Doctus USA, Eclat Health Solutions, Medusind Solutions, etc | Alpharetta, GA | December 10, 2017.
94,396 | ABB, Inc., Robotics & Motors Division, Penmac Staffing, TEC Staffing Services | Clarksville, AR | December 11, 2017.
94,399 | Windstream Services, LLC, Fairport IT Services Division | Fairport, NY | December 11, 2017.
94,400 | Qualcomm Technologies, Inc., Corporate Engineering & QCT Configuration Management Group, Qualcomm, Inc | San Diego, CA | December 12, 2017.
94,404 | Ledvance, LLC, Osram Sylvania, Lamp Division, Remedy, Manpower, Aerotek | Versailles, KY | April 22, 2019.
94,405 | Milco Industries, Inc., Apparel Division | Bloomsburg, PA | December 17, 2017.
94,411 | Bayer CropScience LP, Bayers, Bayer U.S., Belcan, CDI Engineering Group, etc | Institute, WV | December 14, 2018.
94,412 | Carbonite, Inc., Customer Service Support Unit, Advantage, Bonney Staffing, Mozy, Inc | Lewiston, ME | December 19, 2017.
94,413 | Citibank, N.A., Finance/Inter-Affiliate Global Process Owner, Citicorp LLC, GPO, etc | Uniondale, NY | December 19, 2017.
94,414 | CMG Mortgage DBA CMG Financial, CMG Financial Services | Lake Oswego, OR | December 19, 2017.
94,415 | Mattex Group, Mattex Industrial S.A.R.L., 2 Works Staffing, LLC | Chatsworth, GA | December 19, 2017.
94,416 | New Era Cap Corp., Inc., Derby Facility | Derby, NY | December 20, 2017.
94,419 | Blackhawk Engagement Solutions Inc., Blackhawk Network Inc | Lewisville, TX | December 20, 2017.
94,420 | Core Health & Fitness, LLC, Workforce Unlimited, The Reserve Network, @Work Personnel | Independence, VA | December 20, 2017
94,421 | HSBC Technology and Services, USA (HTSU), Risk Division, HSBC North America Holdings Inc | Depew, NY | December 20, 2017.
94,423 | Allstate Insurance Company, Enterprise Services Division, Imaging Department | Lincoln, NE | December 26, 2017.
94,425 | Deluxe Media Inc., Deluxe Entertainment Services Group, Digital Distribution Group, etc | Burbank, CA | December 21, 2017.
94,426 | Excelitas Technologies, Express Employment Professionals | Wheeling, IL | December 21, 2017.
94,429 | Thomson Reuters (Tax & Accounting) Inc., Thomson Reuters U.S., LLC, Tax & Accounting Division, Talent Net | Lake Oswego, OR | December 21, 2017.
94,431 | Crabtree & Evelyn, LTD., Advantage Resourcing, Expert Staffing, Masis Staffing Solutions, etc | Woodstock, CT | December 28, 2017.
94,432 | Radisson Hospitality, Inc., Contact Center | Omaha, NE | December 28, 2017.
94,434 | Crane Co. ChemPharma & Energy Pacific Valves, Crane Co., Fluid Handling Division, TalentZÃ¶k, Ajobstaff, Inc., etc | Signal Hill, CA | January 2, 2018.
94,435 | Gannett Satellite Information Network, LLC, Greenville Call Center, Gannett Co., Inc., Robert Half | Greenville, SC | January 2, 2018.
94,438 | Tangoe US, Inc., Operations Service Excellence Organization | Parsippany, NJ | January 2, 2018.
94,441 | Hon Hai/Foxconn Technology Group, Q-Edge, Foxconn HonHai Logistics California, Assemblix Staffing, etc. | Plainfield, IN | January 3, 2018.
94,442 | Swisher International, Inc. | Jacksonville, FL | December 16, 2018.
94,443 | TMG Health, Cognizant Technologies Company, Aerotek, Kelly Services, Manpower, etc. | Jessup, PA | January 3, 2018.
94,450 | Crane ChemPharma & Energy, Crane Co., Fluid Handling, Express, Staff Force, Spherion, TPI Staffing | Montgomery, TX | January 10, 2018.
94,455 | IKEA Industry Danville LLC, IKEA Industry AB, AmeriStaff, Adecco | Ringgold, VA | January 11, 2018.
94,458 | IBM, Inc., Global Technology Services Division, CDI Corporation | Armonk, NY | January 15, 2018.
94,459 | PVH Neckwear, Inc., PVH Corp., Reliable Resources, Inc | Los Angeles, CA | January 14, 2018.
94,461 | Aptos, Inc., Help Desk, Hardware Install Services and Facilities Newburgh Division, etc | Newburgh, NY | January 15, 2018.
94,463 | Bose Corporation | Stow, MA | January 15, 2018.
94,465 | Aqua Products, Inc., Fluidra USA, U.S. Pool Holdings, Job Connections Services, etc | Cedar Grove, NJ | January 16, 2018.
94,477 | East Coast Seafood LLC, doing business as Garbo Lobster, East Coast Seafood Group, HW Staffing, Empire Staffing | Groton, CT | January 22, 2018.
94,480 | Globe Metallurgical Inc., Ferroglobe PLC, Adecco | Niagara Falls, NY | January 24, 2018.
94,481 | Tenneco Automotive Operating Inc., Tenneco Inc., Elite Logistics, ProLink Staffing Services | Hartwell, GA | January 23, 2018.
94,484 | Bank of the West, BancWest Holding, Transaction Processing Group, Allegis Global Solutions | San Ramon, CA | January 24, 2018.
94,485 | Ditech Holding Corporation, Ditech Financial, DF Insurance Agency, Accounting Principals, Adecco, etc | Rapid City, SD | January 24, 2018.
94,486 | Hubbell Lenoir City, Inc., Hubbell Power Systems, Inc., Hubbell Incorporated, Spherion Staffing, LLC | Palatka, FL | January 24, 2018.
94,492 | R1 RCM | Evansville, IN | January 28, 2018.
94,493 | Conformis, Inc., King & Bishop | Billerica, MA | January 29, 2018.
94,494 | Global Safety Textiles, LLC, Penmac, Ameristaff | South Hill, VA | January 30, 2018.
94,495 | State Street Corporation, Corporate Actions Accounting | Boston, MA | January 30, 2018.
94,496 | Walmart Optical Lab, #9419, Walmart, Inc | Fayetteville, AR | January 29, 2018.
94,498 | R1 RCM | Tulsa, OK | January 30, 2018.
94,498A | R1 RCM | Appleton, WI | January 30, 2018.
94,500 | Ferro Corporation, Medix | Washington, PA | January 31, 2018.
94,501 | Objective Systems Integrators, Inc., Mysoft Holdings USA, Inc | Folsom, CA | January 31, 2018.
94,502 | AECOM Technical Services, Inc., Global Business Services, AECOM, Accountemps | Austin, TX | February 1, 2018.
94,502A | AECOM Technical Services, Inc., Global Business Services, AECOM, Accountemps, Insight Global, etc | Glen Allen, VA | February 1, 2018.
94,503 | Nestle USA Inc., Customer Service Unit, Kelly Services | Breinigsville, PA | February 1, 2018.
94,505 | SQS North America, LLC, Lexington Delivery Center | Lexington, KY | January 31, 2018.
94,514 | Wide Open West Illinois LLC, Customer Care/Sales, Wide Open West LLC | Colorado Springs, CO | February 5, 2018.
94,517 | Ferro Corporation, Aerotek | Cleveland, OH | February 6, 2018.
94,522 | Boston Scientific Corporation, Rhythm Management Division, Apama Facility, Talent Choice | Campbell, CA | February 7, 2018.
94,527 | Conformis, Inc., King & Bishop | Wilmington, MA | January 29, 2018.
94,535 | Kimberly Clark, Global Nonwovens, Strom Engineering, FLS, E-Trans, Bartech, Guidant Global | Neenah, WI | February 11, 2018.
94,542 | Balboa Water Group, LLC, Staffmark, Andek | Tustin, CA | February 14, 2018.
94,547 | IBM, Department B2AA, GBS Division | Chicago, IL | February 15, 2018.

The following certifications have been issued. The requirements of Section 222(b) (supplier to a firm whose workers are certified eligible to apply for TAA) of the Trade Act have been met.

TA-W No. | Subject firm | Location | Impact date
94,417 | Parthenon Metal Works, LLC, Vari-Form Group LLC, Wood Personnel | LaVerne, TN | December 19, 2017.
94,417A | Parthenon Metal Works, LLC, Vari-Form Group LLC, Wood Personnel | Nashville, TN | December 19, 2017.
94,445 | Brownstown Battery Assembly, General Motors Subsystems Manufacturing, General Motors Company | Brownstown Charter Township, MI | January 7, 2018.

The following certifications have been issued. The requirements of Section 222(e) (firms identified by the International Trade Commission) of the Trade Act have been met.

TA-W No. | Subject firm | Location | Impact date
94,154 | Schmidbauer Lumber Inc | Eureka, CA | December 28, 2016.
94,156 | Sierra Pacific Industries | Arcata, CA | December 28, 2016.
94,175 | West Fraser, Inc., West Fraser Timber Co. Ltd | Leola, AR | December 28, 2016.
94,176 | West Fraser, Inc., West Fraser Timber Co. Ltd | Mansfield, AR | December 28, 2016.
94,177 | West Fraser, Inc., West Fraser Timber Co. Ltd | Russellville, AR | December 28, 2016.
94,178 | Weyerhaeuser NR, Manpower | Dierks, AR | December 28, 2016.
94,180 | Anthony Forest Products Company LLC, Canfor Southern Pine, Esa-El Dorado | Strong, AR | December 28, 2016.
94,192 | West Fraser, Inc., West Fraser Timber Co. Ltd | Huttig, AR | December 28, 2016.
94,261 | Grayson Lumber Corporation | Houston, AL | December 28, 2016.
94,265 | Weyerhaeuser NR Company, Adecco | Millport, AL | December 28, 2016.
94,267 | West Fraser, Inc., West Fraser Timber Co. Ltd | Opelika, AL | December 28, 2016.

Negative Determinations for Worker Adjustment Assistance

In the following cases, the investigation revealed that the eligibility criteria for TAA have not been met for the reasons specified.

The investigation revealed that the requirements of Trade Act section 222 (a)(1) and (b)(1) (significant worker total/partial separation or threat of total/partial separation), or (e) (firms identified by the International Trade Commission), have not been met.

TA-W No. | Subject firm | Location | Impact date
94,108 | Infitech, Inc., Intel Corporation | Hillsboro, OR
94,155 | Sierra Forest Products | Terra Bella, CA
94,157 | Sierra Pacific Industries | Burney, CA
94,171 | PotlatchDeltic, Deltic Timber Corporation, Express Employment Professionals | Ola, AR
94,172 | PotlatchDeltic, Deltic Timber Corporation, Manpower Magnolia | Waldo, AR
94,173 | PotlatchDeltic, Potlatch Corporation, Express Employment Professionals, ESA | Warren, AR
94,193A | Boston Scientific Corporation, Human Resources Department, Talent Choice | Minnetonka, MN
94,264 | Johnson Controls Security Solutions, Johnson Controls, Agile 1 | Alexandria, VA
94,344 | Pacific Cargo Control, Inc., Pacific Industries, Inc., Integrity Staffing | Tualatin, OR
94,351 | Shasta Litho, Inc | Klamath Falls, OR

The investigation revealed that the criteria under paragraphs (a)(2)(A)(i) (decline in sales or production, or both), or (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
94,066 | International Business Machines (IBM), Dept QV4A MSS Deployment and Integration, IBM Security Division | Sandy Springs, GA
94,140 | Xero, Inc., US Payments Team, Xero Limited | San Francisco, CA
94,269 | The Westervelt Company, Westervelt Lumber Division | Moundville, AL
94,373 | BRT Inc. DBA Bend Roof Truss | Bend, OR
94,439 | Ten Oaks LLC | Stuart, VA

The investigation revealed that the criteria under paragraphs (a)(2)(A) (increased imports), (a)(2)(B) (shift in production or services to a foreign country or acquisition of articles or services from a foreign country), (b)(2) (supplier to a firm whose workers are certified eligible to apply for TAA or downstream producer to a firm whose workers are certified eligible to apply for TAA), and (e) (International Trade Commission) of section 222 have not been met.

TA-W No. | Subject firm | Location | Impact date
93,468 | First Guaranty Mortgage Corporation, Mortgage and Loan Service Division, K-Force Professional Staffing, etc | Frederick, MD
93,684 | PurEnergy Operating Services, PurEnergy LLC, Charles P. Crane Generating Station, NAES Staffing Services | Baltimore, MD
93,791 | Demag Cranes & Components Corporation, KCI Holding | Solon, OH
93,818 | Toys R Us—Delaware, Inc., Toys R Us, Inc | Sioux Falls, SD
93,818A | Babies R Us, Inc., Toys R Us—Delaware, Inc., Toys R Us, Inc | Rapid City, SD
93,827 | Toys R Us—Delaware, Inc., Toys R Us, Inc | Lafayette, IN
93,857 | Toys R Us—Delaware, Inc., Toys R Us, Inc | Sevierville, TN
93,857A | Toys R Us—Delaware, Inc., Toys R Us, Inc., 8009 Kingston Pike | Knoxville, TN
93,857B | Toys R Us—Delaware, Inc., Toys R Us, Inc., 9626 Kingston Pike | Knoxville, TN
93,857C | Toys R Us—Delaware, Inc., Toys R Us, Inc | Chattanooga, TN
93,857D | Toys R Us—Delaware, Inc., Toys R Us, Inc., 7676 Polo Ground Boulevard | Memphis, TN
93,857E | Toys R Us—Delaware, Inc., Toys R Us, Inc., 8060 Giacosa Place | Memphis, TN
93,857F | Toys R Us—Delaware, Inc., Toys R Us, Inc | Jackson, TN
93,857G | Toys R Us—Delaware, Inc., Toys R Us, Inc | Nashville, TN
93,857H | Toys R Us—Delaware, Inc., Toys R Us, Inc., 2205 Gallatin Pike N | Madison, TN
93,857I | Toys R Us—Delaware, Inc., Toys R Us, Inc., 1800 Gallatin Pike N | Madison, TN
93,857J | Toys R Us—Delaware, Inc., Toys R Us, Inc | Clarksville, TN
93,857K | Toys R Us—Delaware, Inc., Toys R Us, Inc | Franklin, TN
93,857L | Toys R Us—Delaware, Inc., Toys R Us, Inc | Murfreesboro, TN
93,860 | Toys R Us—Delaware, Inc., Toys R Us, Inc | Columbia, SC
93,860A | Toys R Us—Delaware, Inc., Toys R Us, Inc | Florence, SC
93,860B | Toys R Us—Delaware, Inc., Toys R Us, Inc | North Charleston, SC
93,860C | Toys R Us—Delaware, Inc., Toys R Us, Inc | Anderson, SC
93,860D | Toys R Us—Delaware, Inc., Toys R Us, Inc | Myrtle Beach, SC
93,860E | Toys R Us—Delaware, Inc., Toys R Us, Inc | Spartanburg, SC
93,860F | Toys R Us—Delaware, Inc., Toys R Us, Inc | Greenville, SC
93,860G | Babies R Us, Toys R Us—Delaware, Inc., Toys R Us, Inc | Columbia, SC
93,860H | Babies R Us, Toys R Us—Delaware, Inc., Toys R Us, Inc | North Charleston, SC
93,861 | Toys R Us—Delaware, Inc., Toys R Us, Inc., 975 Hanes Mall Boulevard | Winston-Salem, NC
93,861A | Toys R Us—Delaware, Inc., Toys R Us, Inc., 3200 Silas Creek Parkway | Winston-Salem, NC
93,861B | Toys R Us—Delaware, Inc., Toys R Us, Inc., 1856 Catawba Valley Boulevard | Hickory, NC
93,861C | Toys R Us—Delaware, Inc., Toys R Us, Inc., 1840 Highway 70 SE | Hickory, NC
93,861D | Toys R Us—Delaware, Inc., Toys R Us, Inc., 3728 W Gate City Boulevard | Greensboro, NC
93,861E | Toys R Us—Delaware, Inc., Toys R Us, Inc., 1214 Bridford Parkway | Greensboro, NC
93,861F | Toys R Us—Delaware, Inc., Toys R Us, Inc., 8050 Concord Mills Boulevard | Concord, NC
93,861G | Toys R Us—Delaware, Inc., Toys R Us, Inc., 8062 Concord Mills Boulevard | Concord, NC
93,861H | Toys R Us—Delaware, Inc., Toys R Us, Inc | Gastonia, NC
93,861I | Toys R Us—Delaware, Inc., Toys R Us, Inc | Pineville, NC
93,861J | Toys R Us—Delaware, Inc., Toys R Us, Inc | Charlotte, NC
93,861K | Toys R Us—Delaware, Inc., Toys R Us, Inc | Asheville, NC
93,861L | Toys R Us—Delaware, Inc., Toys R Us, Inc | Smithfield, NC
93,861M | Toys R Us—Delaware, Inc., Toys R Us, Inc | Fayetteville, NC
93,861N | Toys R Us—Delaware, Inc., Toys R Us, Inc | Wilmington, NC
93,861O | Toys R Us—Delaware, Inc., Toys R Us, Inc | Greenville, NC
93,861P | Toys R Us—Delaware, Inc., Toys R Us, Inc | Cary, NC
93,861Q | Toys R Us—Delaware, Inc., Toys R Us, Inc | Raleigh, NC
93,861R | Toys R Us—Delaware, Inc., Toys R Us, Inc | Jacksonville, NC
93,878 | Toys R Us—Delaware, Inc., Toys R Us, Inc | Silver Spring, MD
93,878A | Toys R Us—Delaware, Inc., Toys R Us, Inc | Waldorf, MD
93,878B | Toys R Us—Delaware, Inc., Toys R Us, Inc | Townson, MD
93,878C | Toys R Us—Delaware, Inc., Toys R Us, Inc | National Harbor, MD
93,878D | Toys R Us—Delaware, Inc., Toys R Us, Inc | Clarksburg, MD
93,878E | Toys R Us—Delaware, Inc., Toys R Us, Inc | Gaithersburg, MD
93,878F | Toys R Us—Delaware, Inc., Toys R Us, Inc | Owings Mills, MD
93,878G | Toys R Us—Delaware, Inc., Toys R Us, Inc | Annapolis, MD
93,878H | Toys R Us—Delaware, Inc., Toys R Us, Inc | Hagerstown, MD
93,878I | Toys R Us—Delaware, Inc., Toys R Us, Inc | Bel Air, MD
93,878J | Toys R Us—Delaware, Inc., Toys R Us, Inc | Glen Burnie, MD
93,878K | Toys R Us—Delaware, Inc., Toys R Us, Inc | Baltimore, MD
93,878L | Toys R Us—Delaware, Inc., Toys R Us, Inc | Fredrick, MD
93,878M | Toys R Us—Delaware, Inc., Toys R Us, Inc | Columbia, MD
93,878N | Toys R Us—Delaware, Inc., Toys R Us, Inc | Salisbury, MD
93,878O | Toys R Us—Delaware, Inc., Toys R Us, Inc | Pasadena, MD
93,878P | Toys R Us—Delaware, Inc., Toys R Us, Inc | Waldorf, MD
93,890 | MICO, Inc., WABCO Group Inc., WABCO Holdings Inc. Company | North Mankato, MN
93,896 | Safco Products, Co., 619 and 705 North Commerce Street, Liberty Diversified International, etc | Sheboygan, WI
93,896A | Safco Products, Co., 1213A-1310 Pennsylvania Avenue, Liberty Diversified International, etc | Sheboygan, WI
93,896B | Safco Products, Co., 4350 Tower Drive, Liberty Diversified International, Locate, SEEK, etc | Sheboygan, WI
93,946 | Toys R Us—Delaware, Inc., Toys R Us, Inc | Newport News, VA
93,946A | Toys R Us—Delaware, Inc., Toys R Us, Inc | Fredericksburg, VA
93,946B | Toys R Us—Delaware, Inc., Toys R Us, Inc | Chesapeake, VA
93,946C | Toys R Us—Delaware, Inc., Toys R Us, Inc., 400 N Military Highway | Norfolk, VA
93,946D | Toys R Us—Delaware, Inc., Toys R Us, Inc., 1600 Premium Outlets Blvd | Norfolk, VA
93,946E | Toys R Us—Delaware, Inc., Toys R Us, Inc | Virginia Beach, VA
93,946F | Babies R Us, Toys R Us—Delaware, Inc., Toys R Us, Inc | Newport News, VA
93,946G | Babies R Us, Toys R Us—Delaware, Inc., Toys R Us, Inc | Chesapeake, VA
93,971 | Toys R Us—Delaware, Inc., Toys R Us, Inc | Clackamas, OR
93,971A | Toys R Us—Delaware, Inc., Toys R Us, Inc | Eugene, OR
93,971B | Toys R Us—Delaware, Inc., Toys R Us, Inc | Medford, OR
93,971C | Toys R Us—Delaware, Inc., Toys R Us, Inc | Portland, OR
93,971D | Toys R Us—Delaware, Inc., Toys R Us, Inc | Salem, OR
93,971E | Toys R Us—Delaware, Inc., Toys R Us, Inc | Tigard, OR
93,971F | Toys R Us—Delaware, Inc., Toys R Us, Inc | Lincoln City, OR
93,998 | Toys R Us—Delaware, Inc., Toys R Us, Inc | Fayetteville, AR
93,998A | Toys R Us—Delaware, Inc., Toys R Us, Inc | Fort Smith, AR
93,998B | Babies R Us, Toys R Us—Delaware, Inc., Toys R Us, Inc | Little Rock, AR
93,998C | Toys R Us—Delaware, Inc., Toys R Us, Inc | Little Rock, AR
93,998D | Toys R Us—Delaware, Inc., Toys R Us, Inc | North Little Rock, AR
94,034 | The Boeing Company, Satellite Systems, Chipton Ross, Iconma, Moseley Technical Services, etc | El Segundo, CA
94,132 | REC Solar Grade Silicon LLC, REC Silicon Inc., NEMO IT Solutions | Moses Lake, WA
94,143 | Verizon Business Network Services, Customer Service Call Center | Richmond, VA
94,143A | Verizon Business Network Services, Customer Service Call Center | Ashburn, VA
94,165 | Langsam Health Services, LLC, NeighborCare Pharmacy Services, Inc., Omnicare, Inc., CVS Pharmacy, Inc | Oklahoma City, OK
94,181 | Jet Aviation St. Louis, Inc., Jet Professionals, LLC | Cahokia, IL
94,198 | Sandoz, Inc., Broomfield Plant, Novartis AG, Aerotek | Broomfield, CO
94,222 | S-T Industries, Inc | Saint James, MN
94,226 | The Outsource Group, Parallon, Medicaid Eligibility Division, Medicredit, Inc | Irvine, CA
94,233 | Del Monte Foods Inc., Crystal City Plant | Crystal City, TX
94,245 | Wargaming (Seattle), Inc., Redmond Studio, Wargaming (USA), Inc | Redmond, WA
94,253 | Hemlock Semiconductor Corporation Operations LLC, Adecco USA, Inc., Qualified Staffing Services | Hemlock, MI
94,297 | Block Steel Corp., Block Industries Inc | Skokie, IL
94,303 | Copland Industries, Inc., Hire Alternatives, 1714 Carolina Mill Road | Burlington, NC
94,304 | Copland Fabrics, Inc., Hire Alternatives | Burlington, NC
94,314 | Quad Graphics, Inc | Sidney, NE
94,322 | Toys R Us—Delaware, Inc., Toys R Us, Inc | Terra Haute, IN
94,324 | Bak USA Technologies Corp | Buffalo, NY
94,331 | Trelleborg Marine Systems Berryville, Inc., Manpower, Augmentation | Berryville, VA
94,334 | QSC, LLC, QSC Holdings, Inc | San Luis Obispo, CA
94,336 | Caliber Home Loans, Inc., Retail Underwriting Group, Quality Assurance, LSF6 Services Operations | Coppell, TX
94,336A | Caliber Home Loans, Inc., 9095 Rio San Diego Drive, Retail Underwriting, Quality Assurance, etc | San Diego, CA
94,336B | Caliber Home Loans, Inc., 16745 West Bernardo Drive, Retail Underwriting, Quality Assurance, etc | San Diego, CA
94,341 | Alorica | Terre Haute, IN
94,352 | Verizon Wireless, Customer Service Call Center | Little Rock, AR
94,354 | iMedX, Inc. | Atlanta, GA
94,364A | Ditech Financial LLC, Risk & Compliance group, Walter Investment Management Corp | St. Paul, MN
94,366 | Compass Manufacturing NWO, Compass Manufacturing Services | Tualatin, OR
94,367 | Conduent Commercial Solutions LLC, Conduent Business Services, LLC | Colorado Springs, CO
94,378 | Infinite Electronics International, Inc., L-Com, Inc., Tech Needs | North Andover, MA
94,380 | Payless ShoeSource Worldwide, Inc., Merchandising Department, Payless, Inc | Topeka, KS
94,381 | Qualcomm Technologies, Inc., Software Program Management, Qualcomm, Inc | San Diego, CA
94,383 | Chaucer Foods, Inc., Carter Recruiting and Staffing, Aerotek, Flex Force Personnel Services | Forest Grove, OR
94,384 | Ichor Systems, Inc., Cal-Weld | Tualatin, OR
94,430 | Toys R Us—Delaware, Inc., Toys R Us, Inc | Lincoln, NE
94,430A | Toys R Us—Delaware, Inc., Toys R Us, Inc | Omaha, NE
94,436 | MacKay Mitchell Envelope Company, LLC, Gliss Staffing, Terra Staffing, NW Staffing | Portland, OR
94,444 | Nestle USA Inc., Customer Service Center | Fort Worth, TX
94,446 | Honeywell International Inc., Aerospace-Albuquerque Defense, US Tech Solutions, PDS Tech, etc | Albuquerque, NM
94,451 | Xeros, Inc., Xeros Technology Group, Microtech Staffing Group, Accountemps, MRI Network | Providence, RI
94,469 | ShopKo Stores Operating Co., LLC, ShopKo Holding Company, LLC, Adecco, Kforce, 700 Pilgrim Way | Green Bay, WI
94,469A | ShopKo, ShopKo Stores Operating Co., ShopKo Holding Company, 601 Galvin Road South | Bellevue, NE
94,469B | ShopKo, ShopKo Stores Operating Co., ShopKo Holding Company, 4200 South 27th Street | Lincoln, NE
94,469C | ShopKo, ShopKo Stores Operating Co., ShopKo Holding Company, 100 South 66th Street | Lincoln, NE
94,469D | ShopKo, ShopKo Stores Operating Co., ShopKo Holding Company, 3400 North 27th Street | Lincoln, NE
94,469E | ShopKo, ShopKo Stores Operating Co., ShopKo Holding Company, 6845 South 27th Street | Lincoln, NE
94,469F | ShopKo Hometown, ShopKo Stores Operating Co., ShopKo Holding Company, 133 Trotter Avenue | Ord, NE
94,469G | ShopKo Hometown, ShopKo Stores Operating Co., ShopKo Holding Company, 211 South 23rd Street | Plattsmouth, NE
94,469H | ShopKo Hometown, ShopKo Stores Operating Co., ShopKo Holding Company, 1217 South Highway 71 | Kimball, NE

Determinations Terminating Investigations of Petitions for Trade Adjustment Assistance

After notice of the petitions was published in the Federal Register and on the Department's website, as required by Section 221 of the Act (19 U.S.C. 2271), the Department initiated investigations of these petitions.

The following determinations terminating investigations were issued because the petitioner has requested that the petition be withdrawn.

TA-W No. | Subject firm | Location | Impact date
94,299 | Copland Industries, Inc., Distribution Center, Hire Alternatives | Burlington, NC
94,299A | Copland Industries, Inc., Hire Alternatives | Burlington, NC
94,299B | Copland Fabrics, Inc., Hire Alternatives | Burlington, NC
94,313 | Insight Global | San Diego, CA
94,360 | DST Systems, Inc. | Kansas City, MO
94,365 | Callen Manufacturing Corporation | Northlake, IL
94,391 | CA Technologies, Broadcom Inc. | New York, NY
94,433 | Tangoe US, Inc. | Parsippany, NJ
94,507 | Afgritech, LLC | Watertown, NY

The following determinations terminating investigations were issued because the worker group on whose behalf the petition was filed is covered under an existing certification.

TA-W No. | Subject firm | Location | Impact date
93,345 | Dex Media, Inc., Dex YP | Maryland Heights, MO. |
93,731 | GE MDS | Rochester, NY. |
93,918 | Lexis Nexis, RELX Division, Reed Elsevier Lexis Nexis (RELX), Allegis | Albany, NY. |
93,981 | Nike, Inc., WHQ-Beaverton | Beaverton, OR. |
93,986 | Electrolux Home Products, Inc., Freezer Division | Saint Cloud, MN. |
94,098 | Caterpillar Inc., dba Dyersburg Transmission Facility, Advanced Components Manufacturing, Manpower, AECom, Vonochen Services, etc. | Dyersburg, TN. |
94,111 | Dex Media, Inc., d/b/a Dex YP | DFW Airport, TX. |
94,231 | Arjo, Inc, Arjo AB, Entegee, Patriot Technical, Contract Tech, Adecco NA | San Antonio, TX. |
94,343 | IQVIA Inc., Quintiles IMS, IQVIA Holdings, Chief Information Office, etc. | Collegeville, PA. |
94,346 | Amesbury Group, Inc. (DBA AmesburyTruth) | Amesbury, MA. |
94,350 | ICON Information Consultants, NRG Energy, Inc., Homer City Generating Station, NRG Energy | Homer City, PA. |
94,369 | Zebra Technologies, Inc. | El Paso, TX. |
94,393 | Grays Harbor Community Hospital, Patient Accounts, Billing Unit, Grays Harbor Public Hospital, District #2 | Aberdeen, WA. |
94,452 | Zodiac Electrical Inserts USA, Zodiac Electrical Inserts (ZEIU) Reporting Unit, Zodiac Aerospace, etc. | Huntington Beach, CA. |
94,454 | GCL Solar Materials US I, LLC, Kelly Services, ADP TotalSource | Pasadena, TX. |
94,462 | Axeon Specialty Products LLC, Axeon Refining LLC, Associated Asphalt Partners (AAP) | Paulsboro, NJ. |
94,474 | Tangoe US, Inc., Operations Service Excellence Organization | Parsippany, NJ. |

The following determinations terminating investigations were issued because the petitioning group of workers is covered by an earlier petition that is the subject of an ongoing investigation for which a determination has not yet been issued.

TA-W No. | Subject firm | Location | Impact date
94,374 | DXC Technology | Tysons, VA. |
94,460 | PVH Neckwear, Inc., PVH Corp. | Los Angeles, CA. |

I hereby certify that the aforementioned determinations were issued during the period of January 1, 2019 through February 28, 2019. These determinations are available on the Department's website https://www.doleta.gov/tradeact/taa/taa_search_form.cfm under the searchable listing determinations or by calling the Office of Trade Adjustment Assistance toll free at 888-365-6822.

Signed at Washington DC this 4th day of March 2019.
Hope D. Kinglock,
Certifying Officer, Office of Trade Adjustment Assistance.

[FR Doc. 2019-05305 Filed 3-20-19; 8:45 am]

BILLING CODE 4510-FN-P